DEPARTMENT OF HOMELAND SECURITY

U.S. Customs and Border Protection

Notice of Availability of Updated Privacy Impact Assessment for the Southwest Border Pedestrian Exit Field Test

AGENCY: U.S. Customs and Border Protection, DHS.

ACTION: Notice of availability.

SUMMARY: U.S. Customs and Border Protection (CBP) has made available an updated Privacy Impact Assessment (PIA) for the Southwest Border Pedestrian Exit Field Test. This updated PIA, which changes the retention period for certain biometric data gathered during the test, was published on the Department of Homeland Security (DHS) Privacy Office's website on March 5, 2018.

FOR FURTHER INFORMATION CONTACT: Debra Danisek, Privacy Officer, U.S. Customs and Border Protection, at debra.danisek@cbp.dhs.gov or (202) 344-1191.

SUPPLEMENTARY INFORMATION: U.S. Customs and Border Protection (CBP) conducted a test to collect certain biometric information at the Otay Mesa port of entry from December 2015 through June 2016 (“Southwest Border Pedestrian Exit Field Test”). This test was announced in a notice published in the Federal Register on November 13, 2015 (“2015 Notice”).¹ CBP published a Privacy Impact Assessment (PIA) for this test on the Department of Homeland Security (DHS) Privacy Office's website on November 6, 2015.² The purpose of the test was to determine if collecting biometrics in conjunction with biographic data upon exit from the United States would assist CBP in matching subsequent border crossing information records with previously collected entry records. The biometrics collected provide CBP with a baseline of images collected in a live environment that can be compared with existing images. CBP stated in the 2015 Notice and in the PIA that it would retain data collected during the test for one year.

¹ 80 FR 70241. In the 2015 Notice, the test was referred to as the “Test to Collect Biometric Information at the Otay Mesa Port of Entry.”

² This PIA is available at: https://www.dhs.gov/publication/dhscbppia-027-southwest-border-pedestrian-exit-field-test.

Since the conclusion of the Southwest Border Pedestrian Exit Field Test, CBP has continued to explore the best collection methods and modalities for a biometric entry-exit program. CBP has found that the data collected in the Southwest Border Pedestrian Exit Field Test continues to have value because it provides CBP with a rich source of data for ongoing analysis in its efforts to implement an effective biometric entry-exit program. CBP and its vendors are able to use this data for analysis prior to expending additional time and resources to test various systems in the field. Therefore, CBP revised its retention policy for this data and published an updated PIA on the DHS Privacy Office's website on March 5, 2018. The updated PIA provides that CBP is retaining the biometric data gathered under the Southwest Border Pedestrian Exit Field Test until April 2020. It further provides that CBP is not storing the associated biographic information.

The updated PIA is available at: https://www.dhs.gov/publication/dhscbppia-027-southwest-border-pedestrian-exit-field-test.

Dated: July 26, 2018.
Debra Danisek,
CBP Privacy Officer, Privacy and Diversity Office, Office of the Commissioner.

[FR Doc. 2018-16351 Filed 7-30-18; 8:45 am]

BILLING CODE 9111-14-P